DEPARTMENT OF ENERGY

Federal Energy Regulatory Commission

[Project No. 14867-001]

Scott's Mill Hydro, LLC; Notice of Application Tendered for Filing With the Commission and Soliciting Additional Study Requests

Take notice that the following hydroelectric application has been filed with the Commission and is available for public inspection.

a. Type of Application: Exemption from Licensing.

b. Project No.: 14867-001.

c. Date filed: June 17, 2020.

d. Applicant: Scott's Mill Hydro, LLC.

e. Name of Project: Scott's Mill Hydroelectric Project.

f. Location: On the James River, near the City of Lynchburg, in Bedford and Amherst Counties, Virginia. No federal or tribal land would be occupied by project works or located within the project boundary.

g. Filed Pursuant to: Public Utility Regulatory Policies Act of 1978, 16 U.S.C. 2705, 2708.

h. Applicant Contact: Mr. Mark Fendig, P.O. Box 13, Coleman Falls, VA 24536; phone: (540) 320-6762.

i. FERC Contact: Jody Callihan, phone: (202) 502-8278 or email at jody.callihan@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: August 16, 2020.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY).

m. The application is not ready for environmental analysis at this time.

n. The Scott's Mill Hydroelectric Project would consist of: (1) An existing masonry dam containing two spillways separated by a 25-foot-wide stone pier, with one 735-foot-long, 15-foot-high overflow spillway and the other a 140-foot-long, 16-foot-high arch-section spillway; (2) an impoundment with a surface area of 316 acres at the normal pool elevation of 516 feet North American Vertical Datum of 1988 (NAVD 88); (3) a new modular powerhouse containing nine generating units with a total installed capacity of 4.5 megawatts that would be installed immediately downstream of the existing arch-section spillway of the dam; (4) a new 1,200-foot-long underground transmission line; and (5) appurtenant facilities.

To increase flow through the modular powerhouse, Scott's Mill proposes to remove the top 6.8 feet of the existing arch-section spillway of the dam and add a 2-foot-high concrete cap to the existing overflow spillway. Scott's Mill proposes to operate the project in a run-of-river mode with an estimated annual energy production of 20,700 megawatt-hours.

o. In addition to publishing the full text of this document in the Federal Register, the Commission provides all interested individuals an opportunity to view and/or print the contents of this document via the internet through the Commission's Home Page (www.ferc.gov) using the “eLibrary” link. At this time, the Commission has suspended access to the Commission's Public Access Room due to the proclamation declaring a National Emergency concerning the Novel Coronavirus Disease (COVID-19), issued by the President on March 13, 2020. For assistance, contact FERC at FERCOnlineSupport@ferc.gov or call toll-free, (886) 208-3676 or TTY, (202) 502-8659.

You may also register online at http://www.ferc.gov/docs-filing/esubscription.asp to be notified via email of new filings and issuances related to this or other pending projects. For assistance, contact FERC Online Support.

p. Procedural schedule: The application will be processed according to the following preliminary schedule. Revisions to the schedule will be made as appropriate.

Milestone | Target date
Issue Deficiency/Additional Information Request (if necessary) | August 2020.
Issue Acceptance Letter | October 2020.
Issue Scoping Document 1 for comments | October 2020.
Comments on Scoping Document 1 | November 2020.
Issue Scoping Document 2 (if necessary) | December 2020.
Issue Notice of Ready for Environmental Analysis | December 2020.
Commission issues EA | June 2021.
Comments on EA | July 2021.

Dated: June 24, 2020.
Kimberly D. Bose,
Secretary.

[FR Doc. 2020-14176 Filed 6-30-20; 8:45 am]

BILLING CODE 6717-01-P